GENERAL SERVICES ADMINISTRATION

[OMB Control No. 3090-0250; Docket No. 2023-0001; Sequence No. 6]

Submission for OMB Review; General Services Administration Acquisition Regulation; Federal Supply Schedule Contract Administration Information

AGENCY: Office of Acquisition Policy, General Services Administration (GSA).

ACTION: Notice of request for comments regarding an extension to an existing OMB information collection.

SUMMARY: Under the provisions of the Paperwork Reduction Act, the Regulatory Secretariat Division will be submitting to the Office of Management and Budget a request to review and approve an extension of a previously approved information collection regarding Federal Supply Schedule contract administration information.

DATES: Submit comments on or before: February 16, 2024.

ADDRESSES: Written comments and recommendations for this information collection should be sent within 30 days of publication of this notice to www.reginfo.gov/public/do/PRAMain. Find this particular information collection by selecting “Currently under Review—Open for Public Comments”; or by using the search function.

FOR FURTHER INFORMATION CONTACT: Ms. Vernita Misidor, Procurement Analyst, at GSARpolicy@gsa.gov or 202-357-9681.

SUPPLEMENTARY INFORMATION:

A. Purpose

GSA requires information from Federal Supply Schedule contractors that will be used to conduct award oversight or generate mandatory reports during contract administration. For these contractors, providing commercial supplies and services, much of this information is readily available to the public at large, or is routinely exchanged by firms during the normal course of business. This general information collection covers these contract administration requirements, as outlined in GSAR Subpart 538.2—Establishing and Administering Federal Supply Schedules.

B. Annual Reporting Burden

This information collection requires no expenditure of resources to gather the information for submission, as the information is often exchanged by commercial business firms in their catalogs or other public documents during the normal course of business. The nominal amount of burden imposed on the public is simply to relay the requested information.

Respondents: 14,000.

Responses per Respondent: 1.

Total Annual Responses: 14,000.

Hours per Response: 0.5 (30 minutes).

Total Burden Hours: 7,000.

C. Public Comments

A 60-day notice was published in the Federal Register at 88 FR 76217 on November 6, 2023. No comments were received.

Obtaining Copies of Proposals: Requesters may obtain a copy of the information collection documents from the Regulatory Secretariat Division, at GSARegSec@gsa.gov. Please cite OMB Control No. 3090-0250, FSS Contract Administration Information, in all correspondence.

Jeffrey A. Koses,
Senior Procurement Executive, Office of Acquisition Policy, Office of Government-wide Policy.

[FR Doc. 2024-00701 Filed 1-16-24; 8:45 am]

BILLING CODE 6820-14-P